U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on May 23, 2024 on “Key Economic Strategies for Leveling the U.S.-China Playing Field: Trade, Investment, and Technology.”

DATES: The hearing is scheduled for Thursday, May 23, 2024 at 9 a.m.

ADDRESSES: Members of the public will be able to attend in person at a location TBD or view a live webcast via the Commission's website at www.uscc.gov. Visit the Commission's website for updates to the hearing location or possible changes to the hearing schedule. Reservations are not required to view the hearing online or in person.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the fifth public hearing the Commission will hold during its 2024 reporting cycle. The hearing will initially assess U.S. trade strategies to address China's nonmarket practices. Next, the hearing will review U.S. measures to limit the flow of key technologies to China and assess the United States' export control mechanisms. Then, the hearing will consider the design of U.S. outbound investment restrictions, the relevant review processes, and their role in strategic competition with China. Finally, the hearing will assess the United States approach to coordinating its economic strategy with key trade partners in the Indo-Pacific, Europe, and Latin America and the Caribbean.

The hearing will be co-chaired by Commissioner Leland Miller and Commissioner Michael Wessel. Any interested party may file a written statement by May 23, 2024 by transmitting it to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 2, 2024.
Christopher Fioravante,
Director of Operations and Administration, U.S.-China Economic and Security Review Commission.

[FR Doc. 2024-09911 Filed 5-6-24; 8:45 am]

BILLING CODE 1137-00-P